INTERNATIONAL TRADE COMMISSION

[Investigation No. 337-TA-986]

Certain Diaper Disposal Systems and Components Thereof, Including Diaper Refill Cassettes; Commission Determination Not To Review an Initial Determination Terminating the Investigation Based on a Withdrawal of the Complaint; Termination of the Investigation

AGENCY: U.S. International Trade Commission.

ACTION: Notice.

SUMMARY: Notice is hereby given that the U.S. International Trade Commission has determined not to review an initial determination (“ID”) (Order No. 9) issued by the presiding administrative law judge (“ALJ”) on June 14, 2016, granting the complainants' unopposed motion to terminate the investigation based on a withdrawal of the complaint. This investigation is terminated.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 29, 2016, based on a complaint filed by Edgewell Personal Care Brands, LLC, of Chesterfield, Missouri, and International Refills Company, Ltd., of Christ Church, Barbados (collectively, “Complainants”). 81 FR 10277-78. The complaint alleges violations of section 337 of the Tariff Act of 1930, as amended, 19 U.S.C. 1337 (“section 337”), in the importation into the United States, the sale for importation, and the sale within the United States after importation of certain diaper disposal systems and components thereof, including diaper refill cassettes, by reason of infringement of certain claims of U.S. Patent Nos. 6,974,029 and 8,899,420. Id. at 10277. The Commission's notice of investigation named as respondents Munchkin, Inc., of Van Nuys, California; Munchkin Baby Canada Ltd., of Brampton, Ontario, Canada; and Lianyungang Brilliant Daily Products Co. Ltd., of Lianyungang, China. Id. at 10278. The Office of Unfair Import Investigations is not participating in this investigation. Id. Complainants amended their complaint to add as respondents Lianyungang Rainbow Daily Products Co., Ltd., of Lianyungang, China; and Munchkin Asia Limited, of Hong Kong. Order No. 7 (Apr. 8, 2016), not reviewed Notice (Apr. 22, 2016).

On June 10, 2016, Complainants moved to terminate the investigation based on their withdrawal of the complaint. No party responded to the motion.

On June 14, 2016, the ALJ issued the subject ID, granting Complainants' motion and terminating the investigation. No petitions for review were filed.

The Commission has determined not to review the subject ID.

The authority for the Commission's determination is contained in section 337 of the Tariff Act of 1930, as amended (19 U.S.C. 1337), and in Part 210 of the Commission's Rules of Practice and Procedure (19 CFR part 210).

By order of the Commission.
Issued: July 7, 2016.
Lisa R. Barton,
Secretary to the Commission.

[FR Doc. 2016-16523 Filed 7-12-16; 8:45 am]

BILLING CODE 7020-02-P